ENVIRONMENTAL PROTECTION AGENCY

[ FRL-9117-1]

Proposed CERCLA Administrative Settlement; Anderson-Calhoun Mine and Mill Site, Leadpoint, WA

AGENCY: Environmental Protection Agency (EPA).

ACTION: Notice; request for public comment.

SUMMARY: In accordance with Section 122(i) of the Comprehensive Environmental Response, Compensation, and Liability Act, as amended (CERCLA), 42 U.S.C. 9622(i), notice is hereby given of a proposed administrative settlement for costs associated with a removal action at the Anderson-Calhoun Mine and Mill Site in Leadpoint, Washington, with settling party Blue Tee Corporation. The settlement requires the settling party to pay $1,362,800 to cover the estimated cost of the selected removal action, and to conduct all future post-removal site control including maintenance and repair of the removal action. The settlement includes a covenant not to sue or take administrative action against the settling party pursuant to Sections 106 or 107(a) of CERCLA, 42 U.S.C. 9606 or 9607(a), for recovery of past costs and for the performance of the selected removal action. For thirty (30) days following the date of publication of this notice the Agency will receive written comments relating to the settlement. The Agency will consider all comments received during the thirty day period, and may modify or withdraw its consent to the settlement if comments received disclose facts or considerations which indicate that the settlement is inappropriate, improper, or inadequate. The Agency's response to any comments received will be available for public inspection at the U.S. EPA Region 10 offices, located at 1200 Sixth Avenue, Seattle, Washington 98101.

DATES: Comments must be submitted on or before March 26, 2010.

ADDRESSES: The proposed settlement is available for public inspection at the U.S. EPA Region 10 offices, located at 1200 Sixth Avenue, Seattle, Washington 98101. A copy of the proposed settlement may be obtained from Carol Kennedy, Regional Hearing Clerk, U.S. EPA Region 10, Mail Stop ORC-158, 1200 Sixth Avenue, Suite 900, Seattle, Washington 98101; (206) 553-0242. Comments should reference the Anderson-Calhoun Mine and Mill Site in Leadpoint, Washington, EPA Docket No. CERCLA-10-2010-0105 and should be addressed to Alexander Fidis, Assistant Regional Counsel, U.S. EPA Region 10, Mail Stop ORC-158, 1200 Sixth Avenue, Suite 900, Seattle, Washington 98101.

FOR FURTHER INFORMATION CONTACT: Alexander Fidis, Assistant Regional Counsel, U.S. EPA Region 10, Mail Stop ORC-158, 1200 Sixth Avenue, Suite 900, Seattle, Washington 98101; (206) 553-4710.

SUPPLEMENTARY INFORMATION: The Anderson-Calhoun Mine and Mill Site (Site) is located in Leadpoint, Stevens County, Washington. Site operations conducted between 1910 and the early 1980s included the mining and milling of lead-zinc ore, and the milling of barite ore. Waste-rock and mill tailings produced by these operations were disposed of at the Site in a raised tailings impoundment and at areas around the mill building. Waste-rock and tailings at the Site contain hazardous substances including barium, cadmium, copper, lead, selenium and zinc at concentrations that exceed applicable cleanup levels. The Agency has selected a removal action to address potential or actual threats that these substances may present to public health, welfare, or the environment.

The settling party is one of three parties that together spent approximately $660,000 to investigate and study the Site, assess cleanup alternatives, and to develop an Engineering Evaluation and Cost Analysis that formed the basis for the selection of the removal action. The Agency entered into a settlement agreement with the other two parties, Docket Number CERCLA-10-2009-0195, for $357,000, which was deposited in a site-specific account. Under the proposed agreement, the settling party will pay $1,362,800 to the site-specific account to cover the remaining estimated costs of the removal action. The settling party will also conduct all future post-removal site control as described in a finalized maintenance and repair plan. The proposed settlement will provide the settling party with a covenant not to sue or take administrative action, subject to a reservation of certain rights, for recovery past response costs and for the performance of the selected removal action.

Dated: Feburary 16, 2010.
Linda Anderson-Carnahan,
Acting Director, Office of Environmental Cleanup.

[FR Doc. 2010-3681 Filed 2-23-10; 8:45 am]

BILLING CODE 6560-50-P